Title 3—

The President

Proclamation 8638 of March 18, 2011

National Poison Prevention Week, 2011

By the President of the United States of America

A Proclamation

Each day, emergency rooms treat nearly 2,000 Americans for accidental poisonings, and dozens die as a result of ingesting, inhaling, or otherwise exposing themselves to poisonous substances. In many cases, these tragic incidents are preventable. During National Poison Prevention Week, I encourage all Americans to identify possible dangers in the home, take action to address poisoning hazards, and learn how to respond if a poison emergency should occur.

Children are particularly susceptible to unintentional poisoning. More than half of all reported poison exposures involve children under the age of six, and many occur when unsupervised children find and consume medicines or harmful chemicals. Unintentional poisonings among young people often occur when misusing or abusing prescription medications such as pain killers, sedatives, and stimulants taken from a home medicine cabinet. Parents and caregivers can help prevent these injuries by taking simple steps to secure medications and other dangerous materials including resealing child-resistant containers, placing drugs and toxic chemicals out of reach of children, and storing all these products in locked or childproof cabinets.

Sadly, death rates from unintentional poisonings have increased steadily in recent years. Many adult poisonings stem from accidental or intentional exposure to over-the-counter or prescription drugs. These can be avoided by reading labels before taking medications, storing medicines in their original containers, and safely disposing of unused prescription medication. These actions can reduce the risk posed by medications with abuse potential. All Americans can help prevent needless harm from hazardous materials by becoming more aware of the dangers of poisonings and the ways we can prevent and respond to these incidents.

In the event of an accidental poisoning, quick action can prevent serious injury and save lives. If confronted with a suspected poisoning, individuals should call the national poison control hotline at 1-800-222-1222. I encourage families to post this number near their home telephone, which connects callers to potentially life-saving information at local and regional poison control centers 24 hours a day, seven days a week.

To encourage Americans to learn more about the dangers of accidental poisonings and to take appropriate preventive measures, the Congress, by joint resolution approved September 26, 1961, as amended (75 Stat. 681), has authorized and requested the President to issue a proclamation designating the third week of March each year as “National Poison Prevention Week.”

NOW, THEREFORE, I, BARACK OBAMA, President of the United States of America, do hereby proclaim March 20 through March 26, 2011, as “National Poison Prevention Week.” I call upon all Americans to observe this week by taking actions to protect their families from hazardous household materials and from misuse of prescription medications.

IN WITNESS WHEREOF, I have hereunto set my hand this eighteenth day of March, in the year of our Lord two thousand eleven, and of the Independence of the United States of America the two hundred and thirty-fifth.

[FR Doc. 2011-7057

Filed 3-22-11; 11:15 am]

Billing code 3195-W1-P